DEPARTMENT OF AGRICULTURE

Rural Housing Service

Notice of Availability of Funding and Requests for Proposals for Guaranteed Loans Under the Section 538 Guaranteed Rural Rental Housing Program

Correction

In notice document 00-23504 beginning on page 55217 in the issue of Wednesday, September 13, 2000, make the following correction:

On page 55219, the table at the top of the page should appear as shown below:

[FR Doc. C0-23504 Filed 9-29-00; 8:45 am]

BILLING CODE 1505-01-D